DEPARTMENT OF COMMERCE

International Trade Administration

(A-588-046)

Notice of Final Results of Antidumping Duty Changed Circumstances Review: Polychloroprene Rubber from Japan

AGENCY: Import Administration, International Trade Administration, Department of Commerce.

ACTION: Notice of Final Results of Antidumping Duty Changed Circumstances Review.

SUMMARY: On October 21, 2004, the Department of Commerce (the Department) published a notice of preliminary results of its changed circumstances review of the antidumping duty finding on polychloroprene rubber (PR) from Japan in which we preliminarily determined that Showa Denko K.K. (SDK) is not the successor-in-interest to the joint venture of Showa DDE Manufacturing K.K. (SDEM) and DDE Japan Kabushiki Kaisha (DDE Japan) (collectively, SDEM/DDE Japan joint venture). See Notice of Preliminary Results of Antidumping Duty Changed Circumstances Review: Polychloroprene Rubber from Japan, 69 FR 61796 (October 21, 2004) (Preliminary Results). We gave interested parties, SDK and DuPont Dow Elastomers L.L.C. (DuPont), the petitioner in this proceeding, the opportunity to comment on the Preliminary Results. We received a comment from the petitioner concurring with our preliminary results. No additional comments were received. Therefore, for these final results, the Department is adopting its preliminary determination that SDK is not the successor-in-interest to SDEM/DDE Japan joint venture.

EFFECTIVE DATE: November 22, 2004.

FOR FURTHER INFORMATION CONTACT: Zev Primor, AD/CVD Operations, Office 4, Import Administration, International Trade Administration, U.S. Department of Commerce, 14th Street and Constitution Avenue, NW, Washington, DC 20230; telephone (202) 482-4114.

SUPPLEMENTARY INFORMATION:

Background

On December 6, 1973, the Department of Treasury published in the Federal Register (38 FR 33593) the antidumping finding on PR from Japan. On January 14, 2004, SDK submitted a letter stating that it is the successor-in-interest to the SDEM/DDE Japan joint venture and, as such, entitled to receive the same antidumping duty treatment previously accorded to the joint venture (i.e., zero cash deposit). See Notice of Final Changed Circumstances Antidumping Duty Administrative Review: Polychloroprene Rubber from Japan, 67 FR 58 (January 2, 2002), (Changed Circumstances). In that same letter, SDK explained that on November 1, 2002, the SDEM/DDE Japan joint venture was dissolved. Prior to the joint venture's dissolution, SDK and DuPont each owned 50 percent of the joint venture. SDK, therefore, requested that the Department conduct an expedited changed circumstances review of the antidumping duty finding on PR from Japan pursuant to section 751(b)(1) of the Tariff Act (the Act), as amended, and 19 CFR 351.221(c)(3)(ii). However, because the submitted record supporting SDK's claims was deficient, the Department found that an expedited review was impracticable and, on March 1, 2004, issued a notice of initiation without the preliminary results. See Notice of Initiation of Antidumping Duty Changed Circumstances Review: Polychloroprene Rubber from Japan, 69 FR 9586 (March 1, 2004).

In response to the Department's supplemental questionnaire, on March 10 and 19, 2004, SDK provided the Department with supplemental questionnaire responses. Additionally, on February 4 and May 3, 2004, DuPont notified the Department that it opposes SDK's request to be considered the successor-in-interest to the SDEM/DDE Japan joint venture. In particular, DuPont argued that differences between the corporate structures, distribution channels, price structure, and customer base preclude SDK from being considered the successor-in-interest to the SDEM/DDE Japan joint venture.

From August 25 through August 27, 2004, the Department conducted a verification of information in connection with this changed circumstances review at SDK's offices in Kawasaki, Japan. On September 20, 2004, the Department issued its Verification Report. See Memorandum from Zev Primor to the File “Antidumping Duty Changed Circumstances Review of Polychloroprene Rubber (PR) from Japan: Verification Report for Showa Denko K.K. (SDK) Regarding Successorship,” September 20, 2004 (Verification Report). On October 21, 2004, we preliminarily determined that given the totality of the considered factors, the record evidence demonstrates that SDK is a new entity that operates in a significantly different manner from the SDEM/DDE Japan joint venture. Consequently, we preliminarily determined that SDK should not be given the same antidumping duty treatment as the joint venture, i.e., zero percent antidumping duty cash deposit rate. Instead, SDK, as a new entity, should continue to be assigned as its cash deposit rate the “all others” rate, which in this proceeding is 55 percent. See Preliminary Results. On October 28, 2004, DuPont submitted a letter to the Department stating that the Department's preliminary determination that SDK is not the successor-in-interest to the SDEM/DDE Japan joint venture is well-founded in both law and fact. On the same date, SDK filed a letter stating that it would not comment on the preliminary results nor participate further in the proceeding.

Scope of Review

Imports covered by this review are shipments of PR, an oil resistant synthetic rubber also known as polymerized chlorobutadiene or neoprene, currently classifiable under items 4002.42.00, 4002.49.00, 4003.00.00, 4462.15.21, and 4462.00.00 of the Harmonized Tariff Schedule of the United States (HTSUS). HTSUS item numbers are provided for convenience and customs purposes. The written description remains dispositive.

Final Results of Changed Circumstances Review

DuPont's comment fully concurs with the Department's preliminary determination and raises no additional issues. For the reasons stated in the Preliminary Results, we continue to find that SDK is not the successor-in-interest to SDEM/DDE Japan joint venture. We will instruct U.S. Customs and Border Protection to apply the cash deposit determination from this changed circumstances review to all entries of the subject merchandise entered, or withdrawn from warehouse, for consumption on or after the date of publication of the final results of this changed circumstances review. See Granular Polytetrafluoroethylene Resin from Italy; Final Results of Antidumping Duty Changed Circumstances Review, 68 FR 25327 (May 12, 2003). This deposit rate shall remain in effect until publication of the final results of the next administrative review in which SDK participates.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

This notice is in accordance with sections 751(b)(1) and 777(i)(1) of the Act, and 19 CFR 351.216.

Dated: November 15, 2004.
James J. Jochum,
Assistant Secretary for Import Administration.

[FR Doc. E4-3276 Filed 11-22-04; 8:45 am]

BILLING CODE: 3510-DS-S